DEPARTMENT OF ENERGY

Federal Energy Regulatory Commission

Combined Notice of Filings #1

Take notice that the Commission received the following exempt wholesale generator filings:

Docket Numbers: EG24-287-000.

Applicants: Coffeen Solar BESS LLC.

Description: Coffeen Solar BESS LLC submits Notice of Self-Certification of Exempt Wholesale Generator Status.

Filed Date: 9/13/24.

Accession Number: 20240913-5173.

Comment Date: 5 p.m. ET 10/4/24.

Docket Numbers: EG24-288-000.

Applicants: Baldwin Solar BESS LLC.

Description: Baldwin Solar BESS LLC submits Notice of Self-Certification of Exempt Wholesale Generator Status.

Filed Date: 9/13/24.

Accession Number: 20240913-5190.

Comment Date: 5 p.m. ET 10/4/24.

Take notice that the Commission received the following electric rate filings:

Docket Numbers: ER24-2829-001.

Applicants: PJM Interconnection, L.L.C.

Description: Tariff Amendment: Amendment of ER24-2829-000, Amended WMPA No. 6769; AF1-254 to be effective 10/22/2024.

Filed Date: 9/13/24.

Accession Number: 20240913-5194.

Comment Date: 5 p.m. ET 10/4/24.

Docket Numbers: ER24-3032-000.

Applicants: Pacific Gas and Electric Company.

Description: Compliance filing: Order No. 2023 Compliance Filing to be effective 9/16/2024.

Filed Date: 9/13/24.

Accession Number: 20240913-5000.

Comment Date: 5 p.m. ET 10/4/24.

Docket Numbers: ER24-3033-000.

Applicants: American Transmission Systems, Incorporated, PJM Interconnection, L.L.C.

Description: 205(d) Rate Filing: American Transmission Systems, Incorporated submits tariff filing per 35.13(a)(2)(iii: ATSI submits Revised Interconnection Agreement, Service Agreement No. 3992 to be effective 11/13/2024.

Filed Date: 9/13/24.

Accession Number: 20240913-5011.

Comment Date: 5 p.m. ET 10/4/24.

Docket Numbers: ER24-3034-000.

Applicants: PJM Interconnection, L.L.C.

Description: 205(d) Rate Filing: Original GIA Service Agreement No. 7344, AF2-415 to be effective 8/14/2024.

Filed Date: 9/13/24.

Accession Number: 20240913-5028.

Comment Date: 5 p.m. ET 10/4/24.

Docket Numbers: ER24-3035-000.

Applicants: Midcontinent Independent System Operator, Inc.

Description: 205(d) Rate Filing: 2024-09-13_SA 4348 Ameren Illinois-Edwards BESS GIA (R1031) to be effective 9/5/2024.

Filed Date: 9/13/24.

Accession Number: 20240913-5040.

Comment Date: 5 p.m. ET 10/4/24.

Docket Numbers: ER24-3036-000.

Applicants: Midcontinent Independent System Operator, Inc., Ameren Illinois Company.

Description: 205(d) Rate Filing: Midcontinent Independent System Operator, Inc. submits tariff filing per 35.13(a)(2)(iii: 2024-09-13_SA 4351 4352 AIC-Oglesby-IMEA WCA and CA to be effective 11/13/2024.

Filed Date: 9/13/24.

Accession Number: 20240913-5064.

Comment Date: 5 p.m. ET 10/4/24.

Docket Numbers: ER24-3037-000.

Applicants: Southern California Edison Company.

Description: 205(d) Rate Filing: 1st Amend GIA & DSA, Carson Hybrid Energy Storage (WDT1005QFC-WDT1742/SA558-559) to be effective 9/14/2024.

Filed Date: 9/13/24.

Accession Number: 20240913-5076.

Comment Date: 5 p.m. ET 10/4/24.

Docket Numbers: ER24-3038-000.

Applicants: Mid-Atlantic Interstate Transmission, LLC, PJM Interconnection, L.L.C.

Description: 205(d) Rate Filing: Mid-Atlantic Interstate Transmission, LLC submits tariff filing per 35.13(a)(2)(iii: MAIT submits Construction Agmnts, SA No. 7173, 7177 to be effective 11/13/2024.

Filed Date: 9/13/24.

Accession Number: 20240913-5085.

Comment Date: 5 p.m. ET 10/4/24.

Docket Numbers: ER24-3039-000.

Applicants: Mid-Atlantic Interstate Transmission, LLC, PJM Interconnection, L.L.C.

Description: 205(d) Rate Filing: Mid-Atlantic Interstate Transmission, LLC submits tariff filing per 35.13(a)(2)(iii: MAIT submits Construction Agmnts, SA No. 7221, 7222, & 7224 to be effective 11/13/2024.

Filed Date: 9/13/24.

Accession Number: 20240913-5087.

Comment Date: 5 p.m. ET 10/4/24.

Docket Numbers: ER24-3040-000.

Applicants: ISO New England Inc., New England Power Pool Participants Committee.

Description: 205(d) Rate Filing: ISO New England Inc. submits tariff filing per 35.13(a)(2)(iii: ISO-NE/NEPOOL; Revisions to FAP Related to the Delay of FCA 19 to be effective 11/13/2024.

Filed Date: 9/13/24.

Accession Number: 20240913-5098.

Comment Date: 5 p.m. ET 10/4/24.

Docket Numbers: ER24-3041-000.

Applicants: PJM Interconnection, L.L.C.

Description: 205(d) Rate Filing: Amendment to ISA No. 5187; Queue No. AF1-007 to be effective 11/13/2024.

Filed Date: 9/13/24.

Accession Number: 20240913-5107.

Comment Date: 5 p.m. ET 10/4/24.

Docket Numbers: ER24-3042-000.

Applicants: Otter Tail Power Company.

Description: 205(d) Rate Filing: CapX Brookings Certificates of Concurrence—CMA—NSP to be effective 6/21/2024.

Filed Date: 9/13/24.

Accession Number: 20240913-5116.

Comment Date: 5 p.m. ET 10/4/24.

Docket Numbers: ER24-3043-000.

Applicants: Otter Tail Power Company.

Description: 205(d) Rate Filing: CapX Brookings Certificates of Concurrence—OMA and TCEA to be effective 5/10/2013.

Filed Date: 9/13/24.

Accession Number: 20240913-5119.

Comment Date: 5 p.m. ET 10/4/24.

Docket Numbers: ER24-3044-000.

Applicants: Otter Tail Power Company.

Description: 205(d) Rate Filing: CapX Brookings Certificates of Concurrence—Amended and Restated OMA and TCEA to be effective 6/21/2024.

Filed Date: 9/13/24.

Accession Number: 20240913-5129.

Comment Date: 5 p.m. ET 10/4/24.

Docket Numbers: ER24-3045-000.

Applicants: Public Service Company of Colorado.

Description: Compliance filing: 2024-09-13-Att O-PSCo Formula Rate—Order 864 to be effective 1/27/2020.

Filed Date: 9/13/24.

Accession Number: 20240913-5164.

Comment Date: 5 p.m. ET 10/4/24.

Docket Numbers: ER24-3046-000.

Applicants: Duke Energy Progress, LLC.

Description: 205(d) Rate Filing: DEP—Surplus Interconnection Related Agreements (Elm City) to be effective 9/1/2024.

Filed Date: 9/13/24.

Accession Number: 20240913-5176.

Comment Date: 5 p.m. ET 10/4/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 13, 2024.
Debbie-Anne A. Reese,
Acting Secretary.

[FR Doc. 2024-21473 Filed 9-19-24; 8:45 am]

BILLING CODE 6717-01-P